DEPARTMENT OF AGRICULTURE

Natural Resources Conservation Service

Notice of Availability of a Finding of No Significant Impact (FONSI)

AGENCY: Natural Resources Conservation Service, USDA.

ACTION: Notice of availability of a Finding of No Significant Impact for a project on McDonald Creek for review and comment.

SUMMARY: The NRCS has issued a Finding of No Significant Impact (FONSI) for a stream restoration project on a private landowner's land on McDonald Creek. A copy of the FONSI and the final Environmental Assessment (EA) is available for public review at the following locations:

• NRCS Office, 10507 N. McAlister Road, OR 97850.

• Grande Ronde Model Watershed, 1114 J Avenue, La Grande, OR 97850.

• La Grande Public Library, 2006 Fourth Street, La Grande, OR 97850.

• Additional copies may be obtained by contacting Greg Kuehl, NRCS, 541-963-4178, ext. 107.

DATES: Comments will be received for a 30-day period commencing with this date of publication.

ADDRESSES: Address all requests and comments to Greg Kuehl, Basin Team Leader, Natural Resources Conservation Service (NRCS), 10507 N. McAlister Road, OR 97850; (541)-963-1022 (fax).

FOR FURTHER INFORMATION CONTACT: Alan Bahn, NRCS, 541-523-7121, ext. 115.

Dated: August 13, 2007.
Bob Graham,
State Conservationist, Portland, OR.

[FR Doc. E7-16380 Filed 8-20-07; 8:45 am]

BILLING CODE 3410-16-P